DEPARTMENT OF COMMERCE

National Oceanic and Atmospheric Administration

RIN 0648-XE689

Marine Mammals; File No. 18529

AGENCY: National Marine Fisheries Service (NMFS), National Oceanic and Atmospheric Administration (NOAA), Commerce.

ACTION: Notice; issuance of permit.

SUMMARY: Notice is hereby given that a permit has been issued to Janice Straley, University of Alaska Southeast, 1332 Seward Ave., Sitka, AK 99835, to conduct research on cetaceans.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Carrie Hubard or Amy Sloan, (301) 427-8401.

SUPPLEMENTARY INFORMATION: On June 27, 2016, notice was published in the Federal Register (81 FR 41524) that a request for a permit to conduct research on large whales had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 18529 authorizes research on large whales in Alaska, focusing on humpback whales (Megaptera novaeangliae), sperm whales (Physeter macrocephalus), and killer whales (Orcinus orca). Research methods include photo-identification, behavioral observations, biopsy sampling, suction cup and dart tagging, underwater photography/video, and prey-mapping sonar. Prey samples, blow, sloughed skin and feces would also be collected. In addition to the three focus species, six other large whale species and seven small cetacean species would be targeted for research. The permit expires on August 31, 2021.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: September 21, 2016.
Julia Harrison,
Chief, Permits and Conservation Division, Office of Protected Resources, National Marine Fisheries Service.

[FR Doc. 2016-23099 Filed 9-23-16; 8:45 am]

BILLING CODE 3510-22-P